DEPARTMENT OF ENERGY

[FE DOCKET NOS. 10-111-LNG, 12-61-LNG, 12-74-NG, 12-78-NG, 12-79-NG, 12-80-NG, 12-81-NG, 12-82-NG, 12-83-NG, 12-85-NG]

Excelerate Liquefaction Solutions I, LLC, Nutreco Canada Inc., JM & RAL Energy Inc., Constellation Energy Gas Choice, Inc., St. Clair Power L.P., Hess Corporation, Tenaska Gas Storage, LLC, Bluewater Gas Storage, LLC, City of Glendale Water And Power; Orders Granting Authority To Import and Export Natural Gas, To Export Liquefied Natural Gas and Vacating Prior Authority During August 2012

AGENCY: Office of Fossil Energy, Department of Energy (DOE).

ACTION: Notice of orders.

SUMMARY: The Office of Fossil Energy (FE) of the Department of Energy gives notice that during August 2012, it issued Orders granting authority to import and export natural gas and liquefied natural gas and vacating prior authority. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on October 4, 2012.
John A. Anderson,
Manager, Natural Gas Regulatory Activities, Office of Oil and Gas Global Security and Supply, Office of Fossil Energy.

APPENDIX

DOE/FE Orders Granting Import/Export Authorizations

Order no. | Date issued | FE docket no. | Authorization holder | Description of action
2961-A | 08/07/12 | 10-111-LNG | Sabine Pass Liquefaction, LLC | Final Opinion and Order granting long-term authority to export LNG from Sabine Pass LNG Terminal to Free Trade Agreement Nations.
3128 | 08/09/12 | 12-61-NG | Excelerate Liquefaction Solutions I, LLC | Order granting long-term multi-contract authorization to export LNG by vessel from the Excelerate Liquefaction Solutions I, LLC Terminal to Free Trade Agreement Nations.
3129 | 08/14/12 | 12-74-NG | Nutreco Canada Inc. | Order granting blanket authority to import/export natural gas from/to Canada.
3130 | 08/14/12 | 12-78-NG | JM & RAL Energy Inc. | Order granting blanket authority to export natural gas to Mexico.
3131 | 08/14/12 | 12-79-NG | Constellation Energy Gas Choice, Inc. | Order granting blanket authority to import natural gas from Canada and vacating prior authority.
3132 | 08/14/12 | 12-80-NG | St. Clair Power L.P. | Order granting blanket authority to import/export natural gas from/to Canada.
3133 | 08/14/12 | 12-81-NG | Hess Corporation | Order granting blanket authority to import/export natural gas from/to Canada.
3134 | 08/14/12 | 12-82-NG | Tenaska Gas Storage, LLC | Order granting blanket authority to export natural gas to Canada.
3135 | 08/14/12 | 12-83-NG | Bluewater Gas Storage, LLC | Order granting blanket authority to import/export natural gas from/to Canada.
3136 | 08/14/12 | 12-85-NG | City of Glendale Water and Power | Order granting blanket authority to import/export natural gas from/to Canada.

[FR Doc. 2012-25146 Filed 10-11-12; 8:45 am]

BILLING CODE 6450-01-P